DEPARTMENT OF COMMERCE

National Oceanic and Atmospheric Administration

DEPARTMENT OF THE INTERIOR

Protection of the Coral Reef Ecosystem of the Northwestern Hawaiian Islands

AGENCIES: National Oceanic and Atmospheric Administration (NOAA), Department of Commerce (DOC); Department of the Interior (DOI).

ACTION: Request for comments; notice of public meetings.

SUMMARY: On May 26, 2000 President William Jefferson Clinton announced his intention to provide strong and lasting protection for the coral reef ecosystem of the Northwestern Hawaiian Islands. The President signed a Memorandum directing the Secretaries of the Interior and Commerce, in cooperation with the State of Hawaii and in consultation with the Western Pacific Fishery Management Council, to develop recommendations for a new, coordinated management regime to increase protection for the coral reef ecosystem of the Northwestern Hawaiian Islands and provide for sustainable use. The President also directed the Departments of the Interior and Commerce to conduct “visioning sessions, which would provide opportunities for public hearing and comment to help shape the final recommendations.” As part of the visioning process, by this notice the Departments of the Interior and Commerce request comments on a number of specific issues pertaining to the protection of the coral reef ecosystem of the Northwestern Hawaiian Islands. This notice also announces the dates, times and locations for a number of public hearings to receive comments on these issues. The comments received will be used to inform the Departments as they develop the recommendations for the President.

DATES: Comments must by received by August 2, 2000.

ADDRESSES: Comments should be sent to the U.S. Institute for Environmental Conflict Resolution, Suite 3350, 110 South Church Avenue, Tucson, AZ 85701, ATTN: Northwestern Hawaiian Islands. Comments may also be sent to the Institute's website at www.ecr.gov/nwhi.

There will be seven public meetings on the Northwestern Hawaiian Islands initiative. The dates, times and locations are listed below.

FOR FURTHER INFORMATION CONTACT: Marla Steinhoff, NOAA, (301) 713-3155, ext. 208; or Jessica Jenkins, DOI, (202) 219-0710.

I. SUPPLEMENTARY INFORMATION:

1. Northwestern Hawaiian Islands

The Northwestern Hawaiian Islands are an archipelago of uninhabited islands over 1200 miles long located west of the main Hawaiian Islands. They include Nihoa and Necker Islands, French Frigate Shoals, Maro Reef, and Pearl & Hermes Atoll, and are surrounded by some of the healthiest and most extensive coral reefs in U.S. waters. The coral reef ecosystem extends from near-shore areas just beneath the ocean surface to depths of approximately 100 fathoms (600 feet).

The coral reef ecosystem of the Northwestern Hawaiian Islands encompasses approximately 10,000 square kilometers and is home to a diverse and unique assemblage of fish, invertebrates, birds, sea turtles, marine mammals and other species, including many species found nowhere else on Earth. Federally protected species include the threatened green sea turtle, the endangered leatherback and hawksbill sea turtles, and the only remaining population of the endangered Hawaiian monk seal.

2. The President's Memorandum

The following is the text of the President's Memorandum to the Secretaries of the Interior and Commerce.

May 26, 2000.

Memorandum for the Secretary of the Interior, the Secretary of Commerce

Subject: Protection of U.S. Coral Reefs in the Northwest Hawaiian Islands

The world's coral reefs—our tropical rain forests of the water are in serious decline. These important and sensitive areas of biodiversity warrant special protection. While the United States has only 3 percent of the world's coral reefs, nearly 70 percent of U.S. coral reefs are in the Northwest Hawaiian Islands. Many of the Northwest Hawaiian Islands' coral, fish, and invertebrate species are unique, and the area is home to endangered Hawaiian monk seals and threatened turtles. In 1909, President Theodore Roosevelt set aside certain islands and reefs in the Northwest Hawaiian Islands for the protection of sea birds. Today, the U.S. Fish and Wildlife Service manages this area as the Hawaiian Islands National Wildlife Refuge.

In June 1998, I signed an Executive Order for Coral Reef protection (E.O. 13089), which established the Coral Reef Task Force and directed all Federal agencies with coral reef-related responsibilities to develop a strategy for coral reef protection. States and territories with coral reefs were invited to be full partners with the Federal Government in preparing an action plan to better protect and preserve the Nation's coral reef ecosystems. In March of this year, the Task Force issued the National Action Plan to Conserve Coral Reefs. The Plan lays out a science-based road map to healthy coral reefs for future generations, based on two fundamental strategies: Promoting understanding of coral reef ecosystems by, for example, conducting comprehensive mapping, assessment, and monitoring of coral reefs; and reducing the adverse impacts of human activities by, for example, creating an expanded and strengthened network of Federal, State, and territorial coral reef Marine Protected Areas, reducing the adverse impact of extractive uses, and reducing habitat destruction.

It is time now to take the Coral Reef Task Force's recommendations and implement them to ensure the comprehensive protection of the coral reef ecosystem of the Northwest Hawaiian Islands through a coordinated effort among the Departments of the Interior and Commerce and the State of Hawaii.

Accordingly, I have determined that it is in the best interest of our Nation, and of future generations, to provide strong and lasting protection for the coral reef ecosystem of the Northwest Hawaiian Islands, and I am directing you to initiate an administrative process to that end. Specifically, I direct you, working cooperatively with the State of Hawaii and consulting with the Western Pacific Fisheries Management Council, to develop recommendations within 90 days for a new, coordinated management regime to increase protection of the ecosystem and provide for sustainable use. Further, I direct that your recommendations address whether appropriate stewardship for the submerged lands and waters of the Northwest Hawaiian Islands warrants exercise of my authority to extend permanent protection to objects of historic or scientific interest or to protect the natural and cultural resources of this important area.

The recommendations should also:

• Review the status and adequacy of all ongoing efforts to protect the coral reef ecosystem, including proposed no-take ecological reserves and the ongoing work of the Western Pacific Fisheries Management Council;

• To the extent permitted by law, ensure that any actions that the Departments of the Interior and Commerce authorize, fund, or carry out will not degrade the conditions of the coral reef ecosystems;

• Identify any further measures necessary to protect cultural and historic resources and artifacts;

• Identify any further measures necessary for the protection of the ecosystem's threatened and endangered species, including the endangered monk seal, sea turtles, and short-tailed albatross;

• Establish a framework for scientific research and exploration;

• Establish a framework for facilitating recreation and tourism in the Northwest Hawaiian Islands consistent with the protection and sustainable management of the ecosystem;

• Provide for culturally significant uses of the Northwest Hawaiian Islands' marine resources by Native Hawaiians; and

• Address the development of a cooperative framework, in consultation with the State of Hawaii and the Western Pacific Fisheries Management Council, to ensure that the goals set forth above will be implemented in a cooperative manner, consistent with existing authorities.

I also direct that during the 90-day period, the Departments shall conduct “visioning” sessions, which would provide opportunities for public hearing and comment to help shape the final recommendations.

With this new effort, we are taking strides to fulfill the goal of the Coral Reef Task Force to protect our precious coral reefs for the benefit of future generations.

William J. Clinton

II. Request for Comments

As part of the visioning process the Departments of the Interior and Commerce request comments on the following issues related to the coral reef ecosystem of the Northwestern Hawaiian Islands.

(1) Those qualities of the Northwestern Hawaiian Islands coral reef ecosystem that are most important to be preserved through new, strong and lasting protections;

(2) The current threats to the Northwestern Hawaiian Islands coral reef ecosystem;

(3) The future threats to the Northwestern Hawaiian Islands coral reef ecosystem;

(4) The types of activities and uses (including culturally significant uses) that are appropriate in the Northwestern Hawaiian Islands;

(5) The types of activities and uses that are inappropriate in the Northwestern Hawaiian Islands; and

(6) The types of management tools, actions, and approaches that should be used to ensure strong and lasting protection of the Northwestern Hawaiian Islands coral reef ecosystem.

In addition, the Departments welcome comments on the bulleted items set forth in the President's Memorandum.

III. Public Meetings

There will be seven public meetings on the Northwestern Hawaiian Islands initiative. The dates, times and locations are as follows:

July 21, 1-4 p.m.—Washington, D.C.—Department of Commerce Auditorium (14th and Constitution Ave. NW)

July 24, 6-9 p.m.—Oahu—Kalihi Kai Elementary School Cafeteria

July 25, 6-9 p.m.—Maui—Baldwin High School Auditorium

July 27, 6-9 p.m.—Kona—Kealakehe High School Cafeteria

July 28, 6-9 p.m.—Hilo—Hilo High School Cafeteria

July 31, 6-9 p.m.—Kauai—Kauai Community College Cafeteria

August 1, 6-9 p.m.—Molokai—Mitchell Pauole Center

Any changes in dates, times or location shall also be posted in the local media. This information may also be found at www.ecr.gov/nwhi.

Dated: July 6, 2000.
Scott Gudes,
Deputy Under Secretary for Oceans and Atmosphere, Department of Commerce.
Stephen C. Saunders,
Assistant Secretary for Fish and Wildlife and Parks, Department of the Interior.

[FR Doc. 00-17587 Filed 7-10-00; 8:45 am]

BILLING CODE 3510-22-P